FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 012129-003.

Title: EUKOR/“K” Line Space Charter Agreement.

Parties: Eukor Car Carriers, INC.; and Kawasaki Kisen Kaisha, Ltd.

Filing Party: John Meade; “K” Line America, Inc.; General Counsel, “K” Line America, Inc.; 6009 Bethlehem Road Preston, MD 21655.

Synopsis: The amendment corrects clerical errors, makes changes to the agreement language to clarify that the agreement is a cross charter agreement, and clarifies language in the agreement related to dispute resolution.

Agreement No.: 012460.

Title: COSCO Shipping/PIL/WHL Vessel Sharing and Charter Agreement.

Parties: COSCO Shipping Lines Co., Ltd.; Pacific International Lines (Pte.) Ltd; Wan Hai Lines (Singapore) Pte. Ltd.; and Wan Hai Lines Ltd. (acting as a single party).

Filing Party: Eric. C. Jeffrey, Esq.; Nixon Peabody LLP; 799 9th Street NW., Suite 500; Washington, DC 20001.

Synopsis: The agreement would authorize the Parties to cooperate on joint services and slot charters in the trade between ports in China (including Hong Kong) and ports on the United States West Coast.

By Order of the Federal Maritime Commission.
Dated: February 10, 2017.
Rachel E. Dickon,
Assistant Secretary.

[FR Doc. 2017-03093 Filed 2-15-17; 8:45 am]

BILLING CODE 6731-AA-P